DEPARTMENT OF LABOR

Agency Information Collection Activities; Submission for OMB Review; Comment Request; Older Workers Study Impact Evaluation, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Senior Community Service Employment Program (SCSEP). A copy of the proposed Information Collection Request (ICR) can be obtained by contacting the office listed below in the addressee section of this notice.

DATES: Written comments must be submitted to the office listed in the addressee section below on or before December 2, 2024.

ADDRESSES: You may submit comments by either one of the following methods: Email: ChiefEvaluationOffice@dol.gov; Mail or Courier: Marie-Ellen Ehounou, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Marie-Ellen Ehounou by email at ChiefEvaluationOffice@dol.gov or by phone at (202) 693-5506.

SUPPLEMENTARY INFORMATION:

I. Background: The Chief Evaluation Office (CEO) of the U.S. Department of Labor (DOL) intends to design and conduct an impact study of the Senior Community Service Employment Program Sector-based Training Grants Demonstration for Low-income Older Workers. This impact study is part of the larger Older Workers Study, which includes the following components:

(1) A review of existing knowledge and data to inform evaluation activities,

(2) An implementation evaluation design,

(3) An early implementation study and in-depth implementation study of programs receiving the 2020 SCSEP grants,

(4) An impact evaluation that identifies an intervention for a pilot and rigorously evaluates the impact of the intervention on older workers' employment outcomes (primarily placement outcomes), and

(5) An evaluability assessment and potential future research options that would address important gaps in the evidence base related to employment services for older workers.

DOL's CEO contracted with Urban Institute and its partner Capital Research Corporation to conduct the Older Workers Study.

This Federal Register Notice provides the opportunity to comment on the proposed data collection instrument that will be used in the evaluation: the participant Baseline Information Form and informed consent for the Impact Study.

DOL will submit additional requests for future data collection for the overall study.

II. Desired Focus of Comments: Currently, DOL is soliciting comments concerning the above data collection for the Older Workers Impact Study. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology- for example, permitting electronic submission of responses.

III. Current Actions: At this time, DOL is requesting clearance for a Baseline Information Form and informed consent form for participants in the Older Workers Impact Study.

Type of Review: New information collection request.

OMB Control Number: 1290-0NEW.

Affected Public: Individuals or households.

Comments submitted in response to this request will be summarized and/or included in the request for Office of Management and Budget approval of the information collection request; they will also become a matter of public record.

Estimated Annual Burden Hours
Type of instrument | Number of respondents | Number of responses per respondents | Total number of responses | Average burden per response (in hours) | Estimated burden hours | Average hourly wage ($) ¹ | Annual burden costs
Informed Consent and Baseline Information From | 1,600 | 1 | 1,600 | .25 | 400 | ¹ 7.25 | $2,900
Total | 1,600 | 1 | 1,600 | .25 | 400 | ¹ 7.25 | 2,900
¹ Hourly wage for participants is the minimum wage.

Alix Gould-Werth,
Chief Evaluation Officer, U.S. Department of Labor.

[FR Doc. 2024-22432 Filed 9-30-24; 8:45 am]

BILLING CODE 4510-HX-P